MILLENNIUM CHALLENGE CORPORATION

[MCC FR 20-08]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was renewed for a second term on July 11, 2018 and a third term on July 8, 2020. The MCC Advisory Council serves MCC in an advisory capacity only and provides insight regarding innovations in infrastructure, technology, and sustainability; perceived risks and opportunities in MCC partner countries; and new financing mechanisms for developing country contexts. The MCC Advisory Council provides a platform for systematic engagement with the private sector and other external stakeholders and contributes to MCC's mission—to reduce poverty through sustainable, economic growth.

DATES: Monday, October 19, 2020, from 10:00 a.m.—12:30 p.m. ET.

ADDRESSES: The meeting will be held via conference call and/or WebEx.

FOR FURTHER INFORMATION CONTACT: Jennifer Rimbach 202.521.3932, MCCAdvisoryCouncil@mcc.gov or visit https://www.mcc.gov/about/org-unit/advisory-council.

SUPPLEMENTARY INFORMATION:

Agenda. During the Fall 2020 meeting of the MCC Advisory Council, members will receive an update from MCC leadership. MCC will also present on issues related to the ongoing development of MCC's potential compact with Indonesia, during which members will have the opportunity to provide advice on the compact development process and MCC's potential investment strategy.

Public Participation. The meeting will be open to the public. Members of the public may file written statement(s) before or after the meeting. If you plan to attend, please submit your name and affiliation no later than Monday, October 12, 2020 to MCCAdvisoryCouncil@mcc.gov to receive connection instructions and be placed on an attendee list.

Authority: Federal Advisory Committee Act, 5 U.S.C. App.

Dated: September 28, 2020.
Brian Finkelstein,
Acting VP/General Counsel and Corporate Secretary.

[FR Doc. 2020-21758 Filed 9-30-20; 8:45 am]

BILLING CODE 9211-03-P